DEPARTMENT OF AGRICULTURE

Commodity Credit Corporation

Cooperative Conservation Partnership Initiative—Chesapeake Bay Watershed

AGENCY: Commodity Credit Corporation and Natural Resources Conservation Service, Department of Agriculture.

ACTION: Notice of request for proposals.

SUMMARY: The Chief of the Natural Resources Conservation Service (NRCS) who is Vice President of the Commodity Credit Corporation (CCC), announces the availability of technical and financial assistance funding in fiscal year (FY) 2010 through the Cooperative Conservation Partnership Initiative (CCPI) to eligible participants in the Chesapeake Bay Watershed. Special priority consideration will be given to applications/projects in the watersheds of the Susquehanna, Shenandoah, Potomac (North and South), and Patuxent Rivers (see attached map). In FY 2010, NRCS will make Environmental Quality Incentives Program (EQIP) and Wildlife Habitat Incentive Program (WHIP) funds available to owners and operators of agricultural and nonindustrial private forest lands in approved CCPI project areas. This notice is issued to solicit proposals from potential partners who seek to enter into partnership agreements with NRCS to help agricultural producers address Chesapeake Bay Watershed Initiatives (CBWI) objectives by implementing conservation practices on agricultural land to improve water quality, restore wetlands, and enhance wildlife habitat.

DATES: Effective Date: The notice of request is effective April 7, 2010.

Eligible partners may submit proposals by mail or via courier.

• By mail: proposals must be postmarked by May 24, 2010.

• By courier or hand delivery: proposals must be delivered by May 24, 2010.

ADDRESSES: Written proposals should be submitted to the addresses identified below, with copies to the appropriate NRCS State Conservationist whose names and addresses are identified as an attachment to this notice. If a project is multi-State in scope, all State Conservationists in the proposed project area must be sent the proposal for review.

• By mail: Gregory K. Johnson, Director, Financial Assistance Programs Division, Department of Agriculture, Natural Resources Conservation Service, “CBWI-CCPI,” 1400 Independence Avenue, SW., Room 5239 South Building, Washington, DC 20250.

Note: Registered or Certified Mail to a post office will not be accepted.

• By courier: Gregory K. Johnson, Director, Financial Assistance Programs Division, Department of Agriculture, Natural Resources Conservation Service, “CBWI-CCPI Proposal,” 1400 Independence Avenue SW., Room 5239 South Building, Washington, DC 20250. Proposals will be accepted between 9 a.m. and 4 p.m., Monday through Friday, except Federal Holidays. Please ask the guard at the entrance to the South Building to call (202) 720-1845.

Note: Proposals submitted via fax, e-mail, or after the deadline date listed in this notice will not be considered.

FOR FURTHER INFORMATION CONTACT: Gregory Johnson, Director, Financial Assistance Programs Division, Department of Agriculture, Natural Resources Conservation Service, 1400 Independence Avenue, SW., Room 5239 South Building, Washington, DC 20250, Telephone: (202) 720-1845; Fax: (202) 720-4265; or E-mail: CCPI@wdc.usda.gov. Additional information regarding CCPI is available at the following NRCS Web page: http://www.nrcs.usda.gov/programs/CCPI/.

Persons with disabilities who require alternative means for communication (Braille, large print, audio tape, etc.) should contact the USDA TARGET Center at: (202) 720-2600 (voice and TDD).

SUPPLEMENTARY INFORMATION:

Background

The Chesapeake Bay is a national treasure. Agriculture is an important segment of the Chesapeake Bay economy and landscape, providing food, feed, and fiber for the area, Nation, and other countries. Agricultural and forestry operations can have unintended impacts of delivering excess nutrients and sediment to the Bay. Maintaining a healthy, sustainable, agricultural economy is an important consideration in protecting and restoring the Chesapeake Bay. Through a voluntary conservation approach, NRCS is working with landowners and operators to enhance agricultural and forest landscapes that provide agricultural products, increase carbon sequestration, and contribute to a healthy Chesapeake Bay ecosystem and agricultural economy.

The Chesapeake Bay Watershed includes over 44 million acres in six States and the District of Columbia. Agricultural and forest land accounts for 75 percent of the Chesapeake Bay Watershed. Consequently, the stewardship of these lands has a tremendous influence on the quality of natural resources in the watershed. Through the CBWI-CCPI, NRCS will provide additional technical and financial assistance to producers in the Chesapeake Bay Watershed to plan and apply conservation practices to improve water quality, restore wetlands, and enhance wildlife habitat. Additional information about this initiative can be found at: http://www.nrcs.usda.gov/feature/chesapeakebay/chesapeakebay.html.

Availability of Funding

Effective upon publication of this notice, up to $5 million of EQIP and WHIP financial assistance will be available in FY 2010; approximately $500,000 of the $5 million is reserved for multi-State projects. The State Conservationist or Chief will enter into multi-year partnership agreements with the selected, eligible partners which may include State and local governments, Federally recognized Indian Tribes, producer associations, farmer cooperatives, institutions of higher education, and nongovernmental organizations with a history of working cooperatively with producers.

NRCS will enter into partnership agreements with the partners whose applications are selected to provide financial and technical assistance to owners and operators of agricultural and nonindustrial private forest lands to address priority natural resource concerns in the Chesapeake Bay Watershed. Special priority consideration will be given to applications/projects in the watersheds of the Susquehanna, Shenandoah, Potomac (North and South), and Patuxent Rivers. The proposals will be evaluated through a competitive process and in accordance with the criteria established in this notice. After the Chief approves and announces the proposals selected, agricultural producers and nonindustrial private forest landowners (NIPFs) within the approved project areas may submit applications directly to NRCS for one or both of the following programs that are approved for the project: EQIP or WHIP.

This is not a grant program, and all Federal funds made available through this request for proposals will be paid directly to producers through program contract agreements. No technical assistance funding may be provided to the partner through the CBWI-CCPI partnership agreement. However, if requested by a partner whose proposal has been selected, the State Conservationist may consider entering into a separate contribution agreement with the partner to provide funding for delivery of technical services to help agricultural producers and NIPFs participate in an approved project.

Individual agricultural producers and NIPFs are not eligible for CBWI-CCPI partnership agreements. No Federal CBWI-CCPI funding may be used to cover administrative expenses of partners. Administrative activities include any indirect or direct costs relating to submitting or implementing the project proposal.

Definitions

Agricultural land means cropland, grassland, rangeland, pasture, and other agricultural land on which agricultural and forest-related products or livestock are produced and resource concerns may be addressed. Other agricultural lands may include cropped woodland, marshes, incidental areas included in the agricultural operation, and other types of agricultural land used for production of livestock.

Applicant means a person, legal entity, joint operation, or Tribe that has an interest in an agricultural or forestry operation, as defined in 7 CFR part 1400, who has requested to participate in EQIP or WHIP.

Beginning Farmer or Rancher means a person or legal entity who:

(a) Has not operated a farm or ranch, or who has operated a farm or ranch for not more than 10 consecutive years. This requirement applies to all members of an entity who will materially and substantially participate in the operation of the farm or ranch.

(b) In the case of a contract with an individual, individually, or with the immediate family, material and substantial participation requires that the individual provide substantial day-to-day labor and management of the farm or ranch consistent with the practices in the county or State where the farm is located.

(c) In the case of a contract with an entity or joint operation, all members must materially and substantially participate in the operation of the farm or ranch. Material and substantial participation requires that each of the members provide some amount of the management or labor necessary for day-to-day activities, such that if each of the members did not provide these inputs, operation of the farm or ranch would be seriously impaired.

Chief means Chief of the Natural Resources Conservation Service, or designee.

Conservation Activity Plan means a resource-specific conservation plan prepared by a certified Technical Service Provider (TSP) as authorized by the Food, Conservation, and Energy Act of 2008 (2008 Act) for financial assistance payment through EQIP.

Conservation planning means using the planning process outlined in the NRCS National Planning Procedures Handbook (NPPH). The NPPH is available at: http://directives.sc.egov.usda.gov/.

Conservation practice means one or more conservation improvements and planning activities, including structural practices, land management practices, vegetative practices, forest management practices, and other improvements that are planned and applied according to standards and specifications contained in the NRCS Field Office Technical Guide (FOTG). Conservation practices funded through CCPI are subject to requirements of each of the authorized programs:

• EQIP regulation 7 CFR part 1466— http://www.nrcs.usda.gov/programs/eqip.

• WHIP regulation 7 CFR part 636— http://www.nrcs.usda.gov/programs/whip/.

Contract as defined in the EQIP regulation means a legal document that specifies the rights and obligations of any participant accepted to participate in EQIP. A program contract is a binding agreement for the transfer of assistance from USDA to the participant to share in the costs of applying conservation practices.

Contribution Agreement is an agreement between two or more parties that reflects a relationship between the parties to serve a mutual interest and contribute equal resources in carrying out the programs administered by NRCS. Financial or other resources are transferred or exchanged between the parties.

Cost-share agreement as defined in the WHIP regulation means a legal document that specifies the rights and obligations of any participant accepted into WHIP. A WHIP cost-share agreement is a binding agreement for the transfer of assistance from the Department of Agriculture (USDA) to the participant to share in the costs of applying conservation.

Cropland means land used primarily for the production of adapted crops for harvest, including but not limited to land in row crops or close-grown crops, forage crops that are in a rotation with row or close-grown crops, permanent hayland, horticultural crops, orchards, vineyards, cropped woodland, marshes, cranberry bogs, and other lands used for crop production.

Designated Conservationist means an NRCS employee whom the State Conservationist has designated as responsible for administration of NRCS programs at the local level.

Environmental Quality Incentives Program means a program administered by NRCS in accordance with 7 CFR part 1466, which provides for the installation and implementation of conservation practices on agricultural and nonindustrial private forest land.

Field Office Technical Guide means the official local NRCS source of resource information, conservation practice standards, specifications, and interpretation of guidelines, criteria, and requirements for planning and applying conservation practices and conservation management systems. It contains natural resource quality criteria to be achieved to provide for the conservation and sustainability of soil, water, air, plant, and animal resources applicable to the geographic area where resource concerns are addressed. The FOTG can be accessed online at: http://www.nrcs.usda.gov/technical/efotg/.

Financial Assistance means a payment made to the program participant.

Hayland means a subcategory of cropland managed for the production of forage crops that are machine harvested. The crop may be grasses, legumes, or a combination of both.

Indian Tribe means any Indian Tribe, band, nation, or other organized group or community, including any Alaska Native village or regional or village corporation as defined in or established pursuant to the Alaska Native Claims Settlement Act (43 U.S.C. 1601 et seq.) that is Federally recognized as eligible for the special programs and services provided by the United States to Indians because of their status as Indians.

Joint Agreement means a business arrangement where two or more participants cooperate to carry out conservation practices that can best be accomplished by combing resources. Such agreements must be formally documented and signed by all applicable parties.

Joint Operation means a general partnership, joint venture, or other similar business arrangement in which the members are jointly and severally liable for the obligations of the organization.

Limited Resource Farmer or Rancher means:

(a) A person with direct or indirect gross farm sales of not more than $155,200 in each of the previous 2 years (adjusted for inflation using Prices Paid by Farmer Index as compiled by the National Agricultural Statistical Service).

(b) Has a total household income at or below the national poverty level for a family of four, or less than 50 percent of county median household income in each of the previous 2 years (to be determined annually using Department of Commerce data).

Local working group means the advisory body pursuant to 16 U.S.C. 3861 and described in 7 CFR part 610. Information regarding these groups can be found at: http://www.nrcs.usda.gov/programs/StateTech/.

Natural Resources Conservation Service means an agency of USDA which has responsibility for administering programs such as EQIP and WHIP using the funds, facilities, and authorities of the CCC.

Nongovernmental organization is any legal entity that is organized for, and at all times since, the formation of the organization has been operated principally for one or more of the conservation purposes specified in clause (i), (ii), (iii), or (iv) of section 170(h)(4)(A) of the Internal Revenue Code of 1986; is an organization described in section 501(c)(3) or that is described in section 509(a)(2) of that Code; or is described in section 509(a)(3) of that Code and is controlled by an organization described in section 509(a)(2) of that Code.

Nonindustrial private forest land means rural land, as determined by the Secretary, that has existing tree cover or is suitable for growing trees and is owned by any nonindustrial private individual, group, association, corporation, Indian Tribe, or other private legal entity that has definitive decisionmaking authority over the land.

Participant means a person or legal entity, joint operation, or Tribe that is receiving payment or is responsible for implementing the terms and conditions of an EQIP or WHIP contract.

Partner means an entity that enters into a partnership agreement with NRCS to carry out CCPI the approved activities. Eligible partners include Federally recognized Indian Tribes, State and local units of government, producer associations, farmer cooperatives, and institutions of higher education or nongovernmental organizations with a history of working cooperatively with producers.

Partnership agreement means a multi-year agreement between NRCS and the partner. The CCPI partnership agreement does not transfer financial or technical assistance funding to a partner, nor provide for the administrative expenses of the partner. Individual producers may not enter into partnership agreements under CCPI authority.

Payment means financial assistance provided to a program participant under the terms of the contract or cost-share agreement. Payments and payment rates are guided by existing program rules.

Priority resource concern means a resource concern that is identified by the State Conservationist, with advice from the State Technical Committee and local work groups, as a priority for a State or the specific geographic areas within a State.

Producer means a person, legal entity, or joint operation who has an interest in the agricultural operation, according to 7 CFR part 1400, or who is engaged in agricultural production or forestry management.

Rangeland means land on which the historic climax plant community is predominantly grasses, grass-like plants, forbs, or shrubs, and includes lands revegetated naturally or artificially when routine management of that vegetation is accomplished mainly through manipulation of grazing. Rangelands include natural grasslands, savannas, shrublands, most deserts, tundra, alpine communities, coastal marshes, and wet meadows.

Resource concern means a specific natural resource problem that represents a significant concern in a State or region, and is likely to be addressed through the implementation of conservation practices by producers. Resource concerns used by NRCS are found in section III of each State or local FOTG which can be found at: http://www.nrcs.usda.gov/technical/efotg/. Examples of natural resource concerns include soil quality, water conservation, water quality, plant condition, air quality, domestic animals, fish and wildlife habitat, and other subcategories of resource concerns.

Socially Disadvantaged Farmer or Rancher means a farmer or rancher who has been subjected to racial or ethnic prejudices because of their identity as a member of a group without regard to their individual qualities. Those groups include African Americans, American Indians or Alaskan natives, Hispanics, Asians, and native Hawaiians or other Pacific Islanders.

State Conservationist means the NRCS employee who is authorized to implement conservation programs administered by NRCS and who directs and supervises NRCS activities in a State, the Caribbean Area, or the Pacific Islands Area.

State Technical Committee means a committee established by the USDA Secretary in a State pursuant to 16 U.S.C. 3861 and described in 7 CFR part 610. Information regarding these committees can be found at: http://www.nrcs.usda.gov/programs/StateTech/.

Technical assistance means technical expertise, information, and tools necessary for the conservation of natural resources on land active in agricultural, forestry, or related uses. The term includes: (1) Technical services provided directly to farmers, ranchers, and other eligible entities, such as conservation planning, technical consultation, and assistance with design and implementation of conservation practices; and (2) technical infrastructure including activities, processes, tools, and agency functions needed to support delivery of technical services, such as technical standards, resource inventories, training, data, technology, monitoring, and effects analyses. Information regarding technical assistance can be found at: http://www.nrcs.usda.gov/programs/cta/.

Technical Service Provider means an individual, private-sector entity, or public agency certified by NRCS to provide technical services to program participants in lieu of or on behalf of NRCS. Information regarding TSP services can be found at: http://techreg.usda.gov/.

Wildlife Habitat Incentive Program means a program administered by NRCS in accordance with 7 CFR part 636, which provides for technical and financial assistance to protect, restore, develop, and enhance wildlife habitat.

CCPI

Section 2707 of the 2008 Act establishes the CCPI by amending section 1243 of the Food Security Act of 1985 (16 U.S.C. 3843). CCPI is a voluntary conservation initiative that enables the use of certain conservation programs, along with resources of eligible partners, to provide financial and technical assistance to owners and operators of agricultural and nonindustrial private forest lands to enhance conservation outcomes.

Depending upon the program available, the assistance provided enables participants to implement conservation practices and enhancements, including the development and adoption of innovative conservation practices and management approaches. The partner is not required to provide financial or technical resources toward the project; however, proposals that include or offer partner provided resources will be given higher priority consideration in the evaluation process. CCPI financial assistance is delivered directly to agricultural producers and landowners in approved project areas through program contracts or cost-share agreements. General information about CCPI can be found at: http://www.nrcs.usda.gov/programs/ccpi/.

During FY 2010, NRCS, through CBWI-CCPI, will deliver EQIP and WHIP assistance to producers to achieve high-priority conservation objectives in geographic areas defined by the partner. Where flexibility is needed to meet project objectives, the partner may request that program adjustments be allowed, provided such policy adjustments are within the scope of the applicable program's statutory and regulatory program authorities. An example of a program adjustment may be to expedite the applicable program ranking process in a situation where a partner has identified the producers approved to participate in the project. Other examples of program adjustments may include flexibility in payment rate, or using single area-wide plan of operations rather than individual plans of operations.

Submitting Proposals

Potential partners must submit a complete proposal to Gregory K. Johnson, Director, Financial Assistance Programs Division, with a copy to the appropriate State Conservationist addressing all questions and items listed in the “Proposal Requirements” section of this notice. The proposal must include sufficient detail to allow NRCS to understand the partner's priority resource concerns, objectives, and expected outcomes.

Incomplete proposals and those that do not meet the requirements set forth in this notice will not be considered, and notification of elimination will be mailed to the potential partner. State Conservationists will provide guidance to potential partners regarding resource concerns that may be addressed in the proposed project area, local working group and State Technical Committee natural resource priorities, approved conservation practices and activities, and other program requirements the potential partner should consider when developing a proposal. No agency form is provided; potential partners must provide a narrative proposal following the requirements set forth in this notice.

All CBWI-CCPI proposals submitted become the property of NRCS for use in the administration of the program, may be filed or disposed of by the agency, and will not be returned to the potential partner. Once proposals have been submitted for review and ranking, there will be no further opportunity to change or re-submit the proposal document.

Land Eligibility

The following land is eligible for enrollment in the CBWI-CCPI:

• Private agricultural and nonindustrial private forest land.

• Land meeting the covered programs (EQIP and WHIP) eligibility rules. Eligible land is defined for each program in regulation:

• EQIP: 7 CFR 1466.8(c).

• WHIP: 7 CFR 636.4(b).

Land eligibility for CBWI-CCPI projects also include the requirement that the land be located in the Chesapeake Bay Watershed which is defined by statute as the area including all tributaries, backwaters, and side channels, including their watersheds, draining into the Chesapeake Bay (16 U.S.C. 3839bb-4).

Producer Application and Program Contracts

Producers interested in participating in an approved CBWI-CCPI project may apply for assistance at their local USDA service center. The designated conservationist will help the producer determine which program (EQIP or WHIP) is appropriate based on the practices and activities the applicant seeks to install or perform to meet the approved partner's project objectives.

Producers seeking to participate in a CBWI-CCPI project must meet all program-specific eligibility requirements. The requirements that apply to the contract or cost-share agreement are determined by the program selected. For information on program payment limitations and benefits, or other program requirements that may apply to land and producers enrolled in EQIP and WHIP, consult the appropriate program regulation as stated in this notice. Additional information can be found at: http://www.nrcs.usda.gov/programs/. An agricultural producer may elect to use a TSP for technical assistance associated with conservation planning or practice design and implementation.

Proposal Requirements

For consideration of a proposal, a potential partner must submit five copies of the written proposal and one electronic copy to the Director, Financial Assistance Programs Division. Projects may not exceed 5 years in length. The proposal must be in the following format and contain the information set forth below:

Proposal Format: Five copies of the proposal should be typewritten or printed on 8½″ x 11″ white paper. The text of the application should be in a font no smaller than 12-point, with one-inch margins. One additional copy of the proposal must be in electronic format such as Microsoft Word or PDF on one CD ROM. If submitting more than one project proposal, submit a separate complete document for each project. Consult the NRCS national CCPI Web site for an example of an acceptable CCPI proposal document at: http://www.nrcs.usda.gov/programs/ccpi/. The entire project proposal may not exceed 12 pages in length including summary, maps, reference materials, and related reports.

Proposal Summary

The basic format for the CBWI-CCPI proposal is a narrative written response to the questions and information requested in this notice. There are no forms required or associated with the proposal submission process; however, the proposal must include all of the following:

(1) Proposal Cover and Summary: The first two pages of the proposal must include:

(a) Project Title.

(b) Project director/manager name, telephone number, and e-mail address.

(c) Name of lead partner entity submitting proposal and other collaborating partners.

(d) Mailing address and telephone numbers for lead partner submitting proposal.

(e) Short general description/summary of project and description of resource issues to be addressed. Identify the specific natural resource concerns to be addressed.

(f) List the approved FOTG conservation practices, enhancements, and conservation activity plans that will be used to address those resource concerns.

(g) Specify the geographic location: State, county(s), congressional districts, and whether proposal is a multi-State proposal or within-State proposal. Include a general location map.

(h) Proposed project start and end dates (not to exceed a period of 5 years).

(i) Total amount of CBWI-CCPI financial assistance being requested for entire project.

(2) Project Natural Resource Objectives and Actions: The proposal must include the project objectives and the natural resource concerns that will be addressed. A complete list of NRCS approved natural resource concerns can be found on the CCPI Web site at: http://www.nrcs.usda.gov/programs/ccpi/.

(a) Identify and provide detail about the natural resource concern(s) to be addressed and how the proposal objectives will address those concerns. Objectives should be specific, measurable, achievable, results-oriented, and include a timeline for completion.

(b) For each objective, identify the actions to be completed to achieve the objective and to address the identified natural resource concern. Note which actions are to be addressed through this project using NRCS program assistance and which are being addressed through alternate non-Federal funding sources or other resources provided.

(3) Detailed Proposal Criteria: Potential partners must fully describe their project and demonstrate their history of working with agricultural producers to address resource issues. Information provided in the proposal must include:

(a) A description of the partner(s) history of working with agricultural producers to address the conservation objectives to be achieved.

(b) A detailed description of the geographic area covered by the proposal, conservation priorities in the area, conservation objectives to be achieved, lands to be treated, and the expected level of participation by producers.

(1) Include a detailed map showing the project area. Describe the location and size of the proposed project area. Are the size and scope of the project and the proposed practices to address resource concerns reasonable and achievable?

(2) Outline on the map the areas which need conservation treatment and identify the number of acres involved. What kinds of conservation practices or enhancements needed to treat priority resource concerns in each area? Are specific areas or conservation practices prioritized in the project area so they will best address specific resource concerns? Which priority areas need to be addressed first?

(c) A description of how the partner(s) will collaborate to achieve the objectives of the agreement and the roles, responsibilities, and capabilities of the partner(s). Proposals that include resources from other than the submitter of the proposal must include a letter or other documentation from the other partners confirming this commitment of resources. Proposals that demonstrate efforts to collaborate with other partners and producers are likely to provide increased environmental benefits, meet the objectives of CBWI-CCPI, and receive higher ranking consideration in the evaluation process.

(d) A description of the project duration, which cannot exceed 5 years in length, plan of action, and project implementation schedule that details when the potential partner anticipates completing the project and submitting a final report.

(e) A description of the resources (financial and technical assistance) requested from each of the available NRCS programs (EQIP, WHIP) and the non-Federal resources provided by the partner that will be leveraged by the Federal contribution. Partners need to clearly state, by project objective, how they intend to leverage Federal funds along with partner resources. The funding and time contribution by agricultural producers to implement agreed-to conservation practices in program contracts may not be considered any part of a match from the potential partner for purposes of CBWI-CCPI.

(f) A description of the plan for monitoring, evaluating, and reporting on progress made toward achieving the objectives of the agreement. Priority will be given to projects where the partner can provide resources or services, or conduct activities to monitor and evaluate effects of conservation practices and activities implemented through the project.

(g) Potential criteria to be used by NRCS to prioritize and rank agricultural producers' CBWI-CCPI applications in the project area. Potential partners should collaborate with NRCS in the State where the project is proposed to develop meaningful criteria that the agency can use to evaluate and rank producer applications. For approved projects, this joint effort will help NRCS select producer applications which will best accomplish the projects intended goals and address priority resource issues identified by the partner in the proposal. Additional information regarding the process NRCS uses to evaluate and rank individual producer applications is found in each of the authorized programs regulations, and guidance and examples or acceptable ranking criteria may be obtained from the State office where the project will be located.

(h) An estimate of the percentage of producers, including nonindustrial private forest landowners, in the project area that may participate in the project along with an estimate of the total number of producers located in the project area. Producer participation is a requirement for delivery of CBWI-CCPI program benefits. How will the partner encourage participation to guarantee success of the project? Does the project include any beginning farmers or ranchers, socially disadvantaged farmers or ranchers, limited resource farmers or ranchers, and Indian Tribes? If so, how many are expected to participate? Are there groups of producers who may submit joint applications to address resource issues of common interest and need?

(i) A listing and description of the conservation practices, conservation activity plans, enhancements, and partner activities to be implemented during the project timeframe and the general sequence of implementation of the project. Also address technical assistance efforts that will be made by the partner and those that the partner requests NRCS implement using eligible approved conservation practices, enhancements, and project financial assistance funding. In this section, list all the NRCS conservation practices and enhancements the partner wishes NRCS to offer to producers through the CBWI-CCPI project. Information about approved NRCS practices can be found in the FOTG at: http://www.nrcs.usda.gov/technical/efotg/ and descriptions of practices at: http://www.nrcs.usda.gov/technical/standards/. For each conservation practice, estimate the amount of practice extent (feet, acres, number, etc.) the partner expects producers to implement each fiscal year during the life of the project and the amount of financial assistance requested to support implementation of each practice through producer contracts. Indicate whether the project will address regulatory compliance and any other outcomes that partner expects to complete during the project period. Describe any activities that are innovative or include outcome-based performance measures implemented by the partner.

(j) A description of the financial assistance needed annually for producer contracts that will be used to implement the conservation practices and enhancements identified in previous sections. This section of the proposal should also include the total amount of financial assistance funds requested for each fiscal year of the project (for multi-State projects, provide the funds and acres by State as appropriate), to be made available for producer contracts and cost-share agreements.

(k) A description of any requested policy adjustments, by program, with an explanation of why the adjustment is needed in order to achieve the objectives of the project. If a partner is requesting specific program flexibilities that depend on detailed participant or project information, the proposal must provide the needed information. Partners should contact their State Conservationist, or designee, to determine the specific information that may be required (examples of policy adjustments that may be allowed under this authority can be found on the CCPI Web site at: http://www.nrcs.usda.gov/programs/ccpi/).

(l) A description of how the partner will provide for outreach to beginning farmers or ranchers, limited resource farmers or ranchers, socially disadvantaged farmers or ranchers, and Indian Tribes.

(m) A description of how the proposal's objectives may provide additional benefits to address renewable energy production, energy conservation, mitigating the effects of climate change, facilitating climate change adaptation, or fostering carbon sequestration, if applicable.

(4) Review: The State Conservationist will review and comment on eligible proposals to address:

(a) Potential duplication of efforts with other projects or existing programs.

(b) Adherence to, and consistency with, program regulation including requirements related to land and producer eligibility and use of approved NRCS resource concerns and conservation practices, enhancements, and other program requirements.

(c) Expected benefits for project implementation in their State(s).

(d) Other issues or concerns the State Conservationist is aware of that should be considered by the Chief.

(e) A general recommendation for support or denial of project approval.

Prior to submission of the proposal, potential partners are strongly encouraged to consult with the appropriate State Conservationist(s) during development to obtain guidance as to appropriate resource concerns to address needed conservation practices and other details of the project proposal.

Acknowledgement of Submission and Notifications

Partners whose proposals have been selected will receive a letter of official notification. Upon notification of selection, the partner should contact the State Conservationist listed in the letter to develop the required partnership agreement and other project implementation requirements. Potential partners should note that depending upon available funding and agency priorities, NRCS may offer a reduced amount of program financial assistance from what was requested in the proposal. Partner submissions of proposals not selected will be notified by official letter.

Withdrawal of Proposals

Partner proposals may be withdrawn by written notice to the Director, Financial Assistance Programs Division at any time prior to selection.

Ranking Considerations

The Chief or designee will evaluate the proposals using a competitive process.

Higher priority may be given to proposals that:

(a) Have a high percentage of producers actively farming or managing working agricultural or nonindustrial private forest lands included in the proposed project area;

(b) Are in the watersheds of the Susquehanna, Shenandoah, Potomac (North and South), and Patuxent Rivers;

(c) Control erosion and reduce sediment and nutrient levels in ground and surface waters in designated priority areas;

(d) Significantly leverage non-Federal financial and technical resources and coordinate with other local, State, or Federal efforts;

(e) Deliver high percentages of applied conservation practices to address water quality, water conservation, or State and regional conservation initiatives;

(f) Provide innovation in approved conservation practices, conservation methods, and delivery, including outcome-based performance measures and methods;

(g) Complete the application of the conservation practices or activities on all of the covered program contracts or cost-share agreements in 5 years or less;

(h) Assist the participants in meeting local, State, and Federal regulatory requirements;

(i) Provide for monitoring and evaluation of conservation practices, enhancements, and activities;

(j) Provide for matching financial or technical assistance funds to assist participants with the implementation of their EQIP contracts and WHIP cost-share agreements;

(k) Further the Nation's efforts with renewable energy production, energy conservation, mitigating the effects of climate change, facilitating climate change adaptation, or fostering carbon sequestration; and

(l) Provide for outreach to, and participation of, beginning farmers or ranchers, socially disadvantaged farmers or ranchers, limited resource farmers or ranchers, and Indian Tribes within the proposed project area.

Partnership Agreements

Upon selection and approval by the Chief, the agency and partner will enter a partnership agreement. The partnership agreement will not obligate funds, but will address:

(a) The role of the partner;

(b) The role of NRCS;

(c) The responsibilities of the partner related to the monitoring and evaluation of project performance;

(d) The frequency and duration of the monitoring and evaluation to be completed by the partner;

(e) The format and frequency of reports (semi-annual, annual, and final) required as a condition of the partnership agreement;

(f) Budget which includes other funding sources (if applicable) for financial and technical assistance;

(g) The specified project schedule and timeframe; and

(h) Other requirements deemed necessary by NRCS to achieve the purposes of the project.

Once a proposal is selected, a partnership agreement is signed, and subject to the availability of funding, NRCS begins entering into EQIP contracts or WHIP cost-share agreements directly with eligible producers including nonindustrial private forest landowners who are participating in the project and located in the approved geographic area. The program used will depend upon the type of conservation practices to be applied. Participants may have multiple contracts through CBWI-CCPI if more than one covered program is needed to accomplish the project objectives.

Waiver Authority

To assist in the implementation of CBWI-CCPI projects through EQIP or WHIP, the Chief may waive the applicability of the Adjusted Gross Income Limitation, on a case-by-case basis, in accordance with 7 CFR part 1400. Such waiver requests must be submitted in writing from the program applicant, addressed to the Chief, and submitted through the local NRCS designated conservationist.

Signed this 1st day of April 2010 in Washington, DC.
Dave White,
Vice President, Commodity Credit Corporation and Chief, Natural Resources Conservation Service.

Attachment

Addresses and Phone Number of NRCS State Conservationists in States Having Land in the Chesapeake Bay Watershed

Delaware: Russell Morgan,

Suite 100, 1221 College Park Drive,

Dover, DE 19904-8713.

Phone: (302) 678-4160.

Fax: (302) 678-0843.

russell.morgan@de.usda.gov.

Maryland: Jon Hall,

John Hanson Business Center, Suite 301,

339 Busch's Frontage Road,

Annapolis, MD 21409-5543.

Phone: (410) 757-0861 Ext. 315.

Fax: (410) 757-6504.

jon.hall@md.usda.gov.

New York: Astor Boozer,

Suite 354, 441 South Salina Street,

Syracuse, NY 13202-2450.

Phone: (315) 477-6504.

Fax: (315) 477-6560.

astor.boozer@ny.usda.gov.

Pennsylvania: Dave Brown, Acting,

Suite 340, One Credit Union Place,

Harrisburg, PA 17110-2993.

Phone: (717) 237-2203.

Fax: (717) 237-2238.

david.brown@pa.usda.gov.

Virginia: Jack Bricker,

Culpeper Building, Suite 209,

1606 Santa Rosa Road,

Richmond, VA 23229-5014.

Phone: (804) 287-1691.

Fax: (804) 287-1737.

jack.bricker@va.usda.gov.

West Virginia: Kevin Wickey,

Room 301, 75 High Street,

Morgantown, WV 26505.

Phone: (304) 284-7540.

Fax: (304) 284-4839.

kevin.wickey@wv.usda.gov.

[FR Doc. 2010-7808 Filed 4-6-10; 8:45 am]

BILLING CODE 3410-16-P